AGENCY FOR INTERNATIONAL DEVELOPMENT

Notice of Public Information Collection, Request for Comment on the Continued Use of the Partner Information Form (0412-0577) in Compliance With the Paperwork Reduction Act of 1995

AGENCY: U.S. Agency for International Development.

ACTION: 60-Day Notice.

SUMMARY: The U.S. Agency for International Development invites the general public and other Federal agencies to take this opportunity to comment on the following continuing information collections, as required by the Paperwork Reduction Act of 1995. This information collection was first approved by the Office of Management and Budget (OMB) in 2008, and the Partner Information Form has been used successfully in screening programs in West Bank/Gaza and elsewhere since the OMB approval.

DATES: The purpose of this notice is to allow 60 days from the date of its publication for public comments. Comments are encouraged and will be accepted until September 15, 2015.

ADDRESSES: All submissions received must include the OMB Control Number 0412-0577 in the subject box, the agency name and Docket ID AID_FRDOC_0001. To avoid duplicate submissions, please use only one of the following methods to submit comments:

(1) Online. Submit comments via the Federal eRulemaking Portal Web site at www.regulations.gov under e-Docket ID number AID_FRDOC_0001;

(2) Email. Submit comments to ghigginbotham@usaid.gov;

(3) Mail. Submit written comments to George Higginbotham, Senior Management Policy Analyst, USAID, RRB, 1300 Pennsylvania Avenue NW., Washington, DC 20523

Written comments should address one or more of the following points:

(a) Whether the continuing collections of information are necessary for the proper performance of the functions of the agency, including whether the information shall have practical utility;

(b) The accuracy of the burden estimates; (c) ways to enhance the quality, utility, and clarity of the information collected; and (d) ways to minimize the burden of the collection of information on the respondents, including the use of automated collection techniques or other forms of information technology.

FOR FURTHER INFORMATION CONTACT: Direct requests for additional information regarding the collection listed in this notice, including requests for copies of the proposed collection instrument (PIF) and supporting documents, to George Higginbotham, Senior Management Policy Analyst, USAID, RRB, 1300 Pennsylvania Avenue NW., Washington, DC 20523 or at Ghigginbotham@usaid.gov.

SUPPLEMENTARY INFORMATION: OMB Number: 200705-0412-003.

Form Number: 0412-0577.

Overview of This Information Collection

(1) Type of Information Collection: Extension of Information Collection.

(2) Title of the Form/Collection: Partner Information Form.

(3) Agency form number: AID500-13.

(4) Affected public who will be asked or required to respond, as well as a brief abstract: The U.S. Agency for International Development intends to continue collection of information from individuals and/or officers of for-profit and not-for-profit non-governmental organizations (NGOs) who apply for USAID contracts, grants, cooperative agreements, other funding from USAID, or who apply for registration with USAID as Private and Voluntary Organizations. The collection of this information will be used to conduct screening to help mitigate the risk that USAID funds or USAID-funded activities inadvertently provide support to entities or individuals associated with terrorism. Screening programs are being conducted in West Bank/Gaza, Afghanistan, and pilot countries under the Partner Vetting System Pilot Program (Guatemala, Kenya, Lebanon, Philippines, and Ukraine).

(5) An estimate of the total number of respondents and the amount of time estimated for an average respondent to respond: USAID estimates that for pilot and non-pilot vetting programs, 3,800 PIFs will be completed in a calendar year and the additional requirements for partner vetting will add 1.25 hours (75 minutes) to an USAID acquisition or assistance award application.

(6) An estimate of the total public burden (in hours) associated with the collection: The total estimated annual hour burden associated with this collection is 4,750 hours (3,800 forms multiplied by 75 minutes per form, divided by 60 minutes).

(7) An estimate of the total public burden (in cost) associated with the collection: With the implementation of the partner requested secure portal, USAID has made the completion and modification of the PIF much easier for the implementing partner community. No start-up, capital, or maintenance costs to applicants are anticipated as a result of this collection.

Dated: July 6, 2015.
George Higginbotham,
Senior Management Policy Analyst, U.S. Agency for International Development.

[FR Doc. 2015-17567 Filed 7-16-15; 8:45 am]

BILLING CODE 6116-01-P